DEPARTMENT OF HEALTH AND HUMAN SERVICES

National Institutes of Health

National Institute on Drug Abuse; Amended Notice of Meeting

Notice is hereby given of a change in the meeting of the National Institute on Drug Abuse Special Emphasis Panel, May 27, 2009, 9 a.m. to May 27, 2009, 2 p.m., Courtyard by Marriott Rockville, 2500 Research Boulevard, Rockville, MD 20850 which was published in the Federal Register on April 24, 2009, Volume 74, Number 78.

The date of the meeting was changed from May 19, 2009 to May 27, 2009. The meeting is closed to the public.

Dated: May 6, 2009.
Jennifer Spaeth,
Director, Office of Federal Advisory Committee Policy.

[FR Doc. E9-11247 Filed 5-13-09; 8:45 am]

BILLING CODE 4140-01-M